INTERNATIONAL TRADE COMMISSION

[Inv. No. 337-TA-631]

In the Matter of Certain Liquid Crystal Display Devices and Products Containing the Same; Notice of Commission Determination To Rescind a Limited Exclusion Order and Cease and Desist Orders

AGENCY: U.S. International Trade Commission.

ACTION: Notice.

SUMMARY: Notice is hereby given that the U.S. International Trade Commission has determined to rescind the limited exclusion order and cease and desist orders issued in the above-captioned investigation.

FOR FURTHER INFORMATION CONTACT: Clint A. Gerdine, Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 25, 2008, based on a complaint filed by Samsung Electronics Co., Ltd. (“Samsung”) of Korea. 73 FR 4626-27. The complaint, as supplemented, alleged violations of section 337 of the Tariff Act of 1930, as amended, 19 U.S.C. **1337, in the importation into the United States, the sale for importation, and the sale within the United States after importation of certain liquid crystal display (“LCD”) devices and products containing the same by reason of infringement of certain claims of U.S. Patent Nos. 7,193,666; 6,771,344 (“the `344 patent”); 7,295,196; and 6,937,311 (“the `311 patent”). The complaint further alleged the existence of a domestic industry as to each asserted patent. The Commission's notice of investigation named the following respondents: Sharp Corporation of Japan; Sharp Electronics Corporation of Mahwah, New Jersey; and Sharp Electronics Manufacturing Company of America, Inc. of San Diego, California (collectively, “Sharp”).

On January 26, 2009, the presiding administrative law judge (“ALJ”) issued his final initial determination (“ID”) finding a violation of section 337 by respondents as to the `311 and `344 patents only, and issued his recommended determinations on remedy and bonding. On February 9, 2009, Sharp and the Commission investigative attorney (“IA”) filed petitions for review of the final ID. The IA and Samsung filed responses to the petitions on February 17, 2009.

On March 30, 2009, the Commission determined to review several of the ID's findings, and requested the parties to respond to certain questions concerning those findings. The Commission also requested written submissions on the issues of remedy, the public interest, and bonding from the parties and interested non-parties. 74 FR 15301-02 (April 3, 2009).

On April 10 and April 17, 2009, respectively, complainant Samsung, the Sharp respondents, and the IA filed briefs and reply briefs on the issues for which the Commission requested written submissions. Also, the Commission received four submissions from interested non-parties on the issues of remedy, the public interest, and bonding.

On June 24, 2009, the Commission issued notice of its determination to affirm-in-part and reverse-in-part the ID. The Commission affirmed the ALJ's finding of a violation of section 337 with respect to claims 7 and 8 of the `344 patent, but reversed the ALJ's finding of a violation with respect to the `311 patent. 74 FR 31311-12 (June 30, 2009)

Further, the Commission issued (as modified on December 14, 2009): (1) A limited exclusion order prohibiting the unlicensed entry of LCD devices, including display panels and modules, and LCD televisions or professional displays containing the same that infringe claims 7 or 8 of the `344 patent, that are manufactured abroad by or on behalf of, or are imported by or on behalf of, Sharp, or any of its affiliated companies, parents, subsidiaries, licensees, contractors, or other related business entities, or successors or assigns; and (2) cease and desist orders prohibiting Sharp Electronics Corp. and Sharp Electronics Manufacturing Co. from conducting any of the following activities in the United States: Importing, selling, marketing, advertising, distributing, offering for sale, transferring (except for exportation), and soliciting U.S. agents or distributors for, LCD devices, including display panels and modules, and LCD televisions or professional displays containing the same that are covered by claims 7 or 8 of the `344 patent.

On February 12, 2010, complainant Samsung and respondent Sharp filed a joint petition to rescind the remedial orders under Commission Rule 210.76(a)(1) on the basis of a settlement agreement between the parties. The parties asserted that their settlement agreement constitutes “changed conditions of fact or law” sufficient to justify rescission of the order under Commission Rule 210.76(a)(1), 19 CFR 210.76(a)(1). The IA did not oppose the joint petition.

Having reviewed the parties' submissions, the Commission has determined that the settlement agreement satisfies the requirement of Commission Rule 210.76(a)(1), 19 CFR 210.76(a)(1), that there be changed conditions of fact or law. The Commission therefore has issued an order rescinding the limited exclusion order and cease and desist orders previously issued in this investigation.

This action is taken under the authority of section 337 of the Tariff Act of 1930 (19 U.S.C. 1337) and section 210.76(a)(1) of the Commission's Rules of Practice and Procedure (19 CFR 210.76(a)(1)).

Issued: March 1, 2010.
By order of the Commission.
Marilyn R. Abbott,
Secretary to the Commission.

[FR Doc. 2010-4692 Filed 3-4-10; 8:45 am]

BILLING CODE 7020-02-P